DEPARTMENT OF ENERGY

Federal Energy Regulatory Commission

Combined Notice of Filings #1

Take notice that the Commission received the following exempt wholesale generator filings:

Docket Numbers: EG14-106-000.

Applicants: Palo Duro Wind Interconnection Services, LLC.

Description: Notice of Self-Certification of Exempt Wholesale Generator Status of Palo Duro Wind Interconnection Services, LLC.

Filed Date: 9/19/14.

Accession Number: 20140919-5129.

Comments Due: 5 p.m. ET 10/10/14.

Take notice that the Commission received the following electric rate filings:

Docket Numbers: ER11-3697-000.

Applicants: Southern California Edison Company.

Description: Southern California Edison Company Informational Filing of Notice of Revision to Formula Transmission Rate Annual Update.

Filed Date: 9/17/14.

Accession Number: 20140917-5173.

Comments Due: 5 p.m. ET 10/8/14.

Docket Numbers: ER12-2302-003.

Applicants: Midcontinent Independent System Operator, Inc.

Description: Compliance filing per 35: 2014-09-19_SSR Compliance Filing to be effective 9/24/2012.

Filed Date: 9/19/14.

Accession Number: 20140919-5085.

Comments Due: 5 p.m. ET 10/10/14.

Docket Numbers: ER14-2487-001.

Applicants: Midcontinent Independent System Operator, Inc.

Description: Tariff Amendment per 35.17(b): 2014-09-19_SA 762 Termination Amendment ATC-Dominion to be effective 7/16/2014.

Filed Date: 9/19/14.

Accession Number: 20140919-5018.

Comments Due: 5 p.m. ET 10/10/14.

Docket Numbers: ER14-2577-001.

Applicants: El Paso Electric Company.

Description: Compliance filing per 35: OATT Order No. 792 Compliance Filing to be effective 10/3/2014.

Filed Date: 9/19/14.

Accession Number: 20140919-5103.

Comments Due: 5 p.m. ET 10/10/14.

Docket Numbers: ER14-2667-001.

Applicants: EquiPower Resources Management, LLC.

Description: Tariff Amendment per 35.17(b): Amendment to 257 to be effective 8/19/2014.

Filed Date: 9/19/14.

Accession Number: 20140919-5096.

Comments Due: 5 p.m. ET 10/10/14.

Docket Numbers: ER14-2728-001.

Applicants: Wisconsin Public Service Corporation.

Description: Tariff Amendment per 35.17(b): Amendment to Ancillary Services Tariff in Docket ER14-2728 to be effective 8/28/2014.

Filed Date: 9/19/14.

Accession Number: 20140919-5034.

Comments Due: 5 p.m. ET 10/10/14.

Docket Numbers: ER14-2909-000.

Applicants: Idaho Power Company.

Description: § 205(d) rate filing per 35.13(a)(2)(iii): Concurrence to Amended Boardman Agreement to be effective 11/1/2014.

Filed Date: 9/19/14.

Accession Number: 20140919-5001.

Comments Due: 5 p.m. ET 10/10/14.

Docket Numbers: ER14-2910-000.

Applicants: Southwest Power Pool, Inc.

Description: Notice of Cancellation of Firm Point-To-Point Transmission Service Agreement No. 2027 of Southwest Power Pool, Inc.

Filed Date: 9/18/14.

Accession Number: 20140918-5133.

Comments Due: 5 p.m. ET 10/9/14.

Docket Numbers: ER14-2911-000.

Applicants: Midcontinent Independent System Operator, Inc.

Description: § 205(d) rate filing per 35.13(a)(2)(iii): 2014-09-19_SA 2696 ITC Midwest-Interstate Power J233 E&P to be effective 9/20/2014.

Filed Date: 9/19/14.

Accession Number: 20140919-5044.

Comments Due: 5 p.m. ET 10/10/14.

Docket Numbers: ER14-2912-000.

Applicants: White Pine Electric Power L.L.C.

Description: § 205(d) rate filing per 35.13(a)(2)(iii): MBR Tariff Revisions to be effective 11/18/2014.

Filed Date: 9/19/14.

Accession Number: 20140919-5054.

Comments Due: 5 p.m. ET 10/10/14.

Docket Numbers: ER14-2913-000.

Applicants: UP Power Marketing LLC.

Description: § 205(d) rate filing per 35.13(a)(2)(iii): MBR Tariff Revisions to be effective 11/18/2014.

Filed Date: 9/19/14.

Accession Number: 20140919-5069.

Comments Due: 5 p.m. ET 10/10/14.

Docket Numbers: ER14-2914-000.

Applicants: Public Service Company of New Mexico.

Description: Compliance filing per 35: Revisions to PNM's OATT to Integrate the Requirements of Order No. 789 to be effective 10/1/2014.

Filed Date: 9/19/14.

Accession Number: 20140919-5079.

Comments Due: 5 p.m. ET 10/10/14.

Docket Numbers: ER14-2915-000.

Applicants: PJM Interconnection, L.L.C.

Description: § 205(d) rate filing per 35.13(a)(2)(iii): PJM revisions to OA Section 1.42A.02 re Supplemental Project to be effective 11/19/2014.

Filed Date: 9/19/14.

Accession Number: 20140919-5104.

Comments Due: 5 p.m. ET 10/10/14.

Docket Numbers: ER14-2916-000.

Applicants: Midcontinent Independent System Operator, Inc.

Description: § 205(d) rate filing per 35.13(a)(2)(iii): 2014-09-19_SA 2698 OTP-Courtenay Wind Farm GIA (J262/J263) to be effective 9/20/2014.

Filed Date: 9/19/14.

Accession Number: 20140919-5113.

Comments Due: 5 p.m. ET 10/10/14.

Docket Numbers: ER14-2917-000.

Applicants: Midcontinent Independent System Operator, Inc.

Description: § 205(d) rate filing per 35.13(a)(2)(iii): 2014-09-19_SA 2622 Termination OTP-Courtenay Wind Farm E&P (J262/J263) to be effective 9/20/2014.

Filed Date: 9/19/14.

Accession Number: 20140919-5115.

Comments Due: 5 p.m. ET 10/10/14.

Take notice that the Commission received the following public utility holding company filings:

Docket Numbers: PH14-14-000.

Applicants: Continental Energy Systems LLC.

Description: Continental Energy Systems LLC submits FERC 65-A Exemption Notification.

Filed Date: 9/19/14.

Accession Number: 20140919-5102.

Comments Due: 5 p.m. ET 10/10/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 19, 2014.
Nathaniel J. Davis, Sr.,
Deputy Secretary.

[FR Doc. 2014-23192 Filed 9-29-14; 8:45 am]

BILLING CODE 6717-01-P